DEPARTMENT OF THE INTERIOR

Fish & Wildlife Service

Notice of Intent To Conduct Restoration Planning: M/V Citrus Natural Resource Damage Assessment

AGENCY: Fish & Wildlife Service, Department of the Interior.

ACTION: Notice of intent to conduct restoration planning.

SUMMARY: The United States Department of the Interior, trustee for the incident involving the discharge of oil from the M/V Citrus, has chosen to enter into the restoration planning phase of a Natural Resource Damage Assessment. The purpose of this phase is to prepare a plan for the restoration, rehabilitation, replacement, or the acquisition of the natural resources injured, destroyed or lost, or the uses which were lost, as a result of this discharge.

FOR FURTHER INFORMATION CONTACT: Greg Siekaniec, Refuge Manager or Laurie Daniel, M/V Citrus Case Manager, Alaska Maritime National Wildlife Refuge (AMNWR), 95 Sterling Highway, Suite 1, Homer, AK 99603, or by phone at (907) 235-6546.

SUPPLEMENTARY INFORMATION: In mid-February of 1996, a large number of various species of oiled migratory waterfowl and seabirds were discovered on the Bering Sea islands of St. Paul and St. George, in the Pribilof Islands, Alaska. Laboratory analysis of oil samples taken from vessels in the area and from the carcasses of oiled birds resulted in the identification by the United States Coast Guard of the cargo freighter M/V Citrus as the source of the oil.

In the days immediately preceding this discovery, the hull of the M/V Citrus had been ruptured during operations offshore of the northwest end of St. Paul Island when cargo from another vessel was being transferred to the M/V Citrus. As a result of this rupture and the crew's efforts to stabilize the vessel, an undetermined amount of heavy fuel oil was discharged from the M/V Citrus into waters of the United States within the Bering Sea.

The discharge of oil from the M/V Citrus described above is referred to in this Notice of Intent to Conduct Restoration Planning (“Notice”), issued pursuant to 15 CFR 990.44, as the “Incident.”

Pursuant to section 1006(b) of the Oil Pollution Act of 1990 (“OPA”), 33 U.S.C. 2706(b), the Secretary of the U.S. Department of the Interior, represented by the Regional Director of the Fish and Wildlife Service, Alaska Region, is a designated trustee of natural resources for this Incident (“Trustee”). The Trustee is responsible for assessing the damages to natural resources under its trusteeship that have resulted from the Incident, developing a plan for the restoration of these resources, and pursuing funding from responsible parties for the implementation of this plan or the implementation of the plan by the responsible parties themselves. The Trustee is proceeding in accordance with the regulations for Natural Resource Damage Assessments at 15 CFR part 990.

One of the goals of OPA is to make the environment and the public whole for injuries to natural resources and services resulting from an incident involving a discharge or substantial threat of a discharge of oil from a vessel into or upon navigable waters or adjoining shorelines. This goal is achieved through the return of the injured natural resources and services to baseline and the provision of compensation for interim losses of such natural resources and the services they provide, to other natural resources and/or the public, from the date of the incident until recovery.

The parties responsible for the Incident (“Responsible Parties”) include Excel Navigation, S.A., the owner and operator of the M/V Citrus at the time of the Incident. The guarantor of financial responsibility for the liability of Excel Navigation, S.A,. is the Japan Shipowners' Mutual Protection and Indemnity Association.

The Trustee has performed pre-assessment activities in connection with the Incident, including data collection and preliminary analysis. These activities include conducting a drift experiment to assess the influence of wind on the recovery of oiled seabirds; conducting a study to estimate persistence rates and detection probabilities of oiled king eider carcasses; conducting Seawatch surveys and counts to determine species at risk from the Incident; performing a genetic characterization of breeding and wintering king eiders; and collecting and cataloguing marine bird carcasses found on beaches following the Incident.

On September 1, 2004, the Trustee invited Excel Navigation, S.A., to participate in the Natural Resource Damage Assessment and Restoration Planning process.

Trustee Determinations

1. Determination of Jurisdiction

The Trustee has made the following findings pursuant to 15 CFR 990.41:

a. The Trustee has jurisdiction to pursue restoration pursuant to the Oil Pollution Act, 33 U.S.C. 2702 and 2706(c). The discharge of oil beginning on or about February 16, 1996, from the M/V Citrus into the Bering Sea, approximately 6 km north of St. Paul Island, was an “incident” as defined at 15 CFR 990.30.

(1) The M/V Citrus, a “vessel” as defined at 33 U.S.C. 2701(37), discharged the entire quantity of oil involved in this Incident.

(2) The M/V Citrus discharged oil into or upon navigable waters of the United States, including navigable waters adjacent to St. Paul Island, Alaska.

b. The Trustee has determined that:

(1) This Incident was not permitted under Federal, State or local law;

(2) The M/V Citrus is not a public vessel, as defined at 15 CFR 990.30;

(3) The discharge of oil did not occur from an onshore facility subject to the Trans-Alaska Pipeline Authority; and

(4) Natural resources under the trusteeship of the Trustee were injured as a result of the Incident. 40 CFR 300.600(b)(2).

c. Based upon information gathered during the response phase of the Incident and the pre-assessment phase of the Natural Resource Damage Assessment, the Trustee has determined that, due to the amount and type of oil discharged, the location of the discharge, and the living and non-living natural resources and uses in the area at the time of the discharge, natural resources under its trusteeship have been injured, destroyed, or lost, and use of the natural resources has been lost as a result of the Incident.

2. Determination To Conduct Restoration Planning

The Trustee has determined, pursuant to 15 CFR 990.42(a), that:

a. Data collected and analyzed pursuant to 15 CFR 990.43 demonstrate that injuries to natural resources have resulted from the Incident, including but not limited to injury to a wide variety and number of waterfowl and seabirds. Among the species injured are pelagic cormorants, red-faced cormorants, long-tailed ducks (formerly called oldsquaw), harlequin ducks, king eiders, spectacled eiders, glaucous-winged gulls, common murres, thick-billed murres, crested auklets, parakeet auklets, and pigeon guillemots. Spectacled eiders are federally listed as “threatened” under the Endangered Species Act, 16 U.S.C. 1531-1544. A total of 1367 injured birds were recovered onshore as a result of the incident. Specifically, 1202 dead birds were recovered on beaches, and 165 live but oiled birds were captured and underwent rehabilitation.

In light of the prevailing weather and sea conditions at the time of the Incident, their presence in the area, and the nature of the birds at risk from the Incident, the Trustee believes that a large number of marine birds likely perished at sea. The Trustee plans to further analyze the extent of injury to better define the total number of birds injured and services lost from the Incident.

b. Response actions have not adequately addressed the injuries and lost services resulting from the Incident. Response efforts included removing dead bird carcasses and capturing, cleaning, and rehabilitating live oiled birds. Despite these efforts, only a small percentage of the birds affected by the oil were treated and many birds perished as a result of the Incident.

c. Potential assessment procedures to be used to evaluate injuries to, and to design and implement the appropriate type and scale of restoration for these natural resources and services consist of, but are not necessarily limited to:

(1) Examining pre-existing baseline data on marine birds which normally winter in the area of the Incident, and data collected from Seawatch surveys at the time of the Incident, to assess damage to resources;

(2) Modeling of pre-existing population and incident-related carcass recovery data to obtain an estimate of total birds injured by the Incident; and

(3) Analyzing habitat information to properly scale restoration needs.

d. Feasible primary and compensatory restoration actions exist to address injuries from the Incident. Restoration activities are expected to focus on marine birds. Restoration could include actions to protect and enhance habitat. Feasible restoration actions relevant to the injuries may include, but are not necessarily limited to:

(1) Establishing a database of demographic and phenotypic information on king eiders for identification and management of sensitive areas around the Pribilof Islands;

(2) Preventing the introduction of rats on the Pribilof Islands to protect the habitat and populations of marine birds injured by the Incident;

(3) Removing introduced terrestrial invasive species that prey on or compete with marine birds, such as fox, rats, and /or ground squirrels on certain islands of the Alaska Maritime National Wildlife Refuge to restore habitat and populations of marine birds injured by the Incident;

(4) Enhance, protect, and/or acquire seabird nesting habitat in the Aleutian and Pribilof Islands; and

(5) Public outreach in the Pribilof Islands on issues that can reduce further marine bird losses.

Data supporting these determinations are contained in the Administrative Record established for this case (see below).

Based upon the foregoing determination, the Trustee has chosen to proceed with restoration planning for this Incident.

Opportunity To Comment

Pursuant to 15 CFR 990.14(d), the Trustee will seek public involvement in restoration planning for this Incident through public review of, and comment on, the Draft Restoration Plan. When the Draft Restoration Plan is prepared, the public will be notified of the opportunity to comment. Questions regarding this Notice may be directed to: Greg Siekaniec, Refuge Manager or Laurie Daniel, M/V Citrus Case Manager, Alaska Maritime National Wildlife Refuge (AMNWR), 95 Sterling Highway, Suite 1, Homer, Alaska 99603, Phone: (907) 235-6546.

Administrative Record

The Trustee has opened an Administrative Record (“Record”) in compliance with 15 CFR 990.45. The Record includes documents relied upon by the Trustee to date in the pre-assessment phase of the natural resource damage assessment in connection with the Incident, and the Record will be supplemented with additional relevant documents as the natural resource damage assessment proceeds. The Record is on file at the Alaska Maritime National Wildlife Refuge in Homer, Alaska. Arrangements can be made to review the Record by contacting Greg Siekaniec, Refuge Manager or Laurie Daniel, M/V Citrus Case Manager, at the above contact information.

Dated: March 16, 2005.
Gary Edwards,
Deputy Regional Director, U.S. Fish and Wildlife Service, Anchorage, Alaska.

[FR Doc. 05-16105 Filed 8-12-05; 8:45 am]

BILLING CODE 4310-55-U